DEPARTMENT OF COMMERCE

National Oceanic and Atmospheric Administration

RIN 0648-XG 773

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Tuesday, February 26, 2019 at 9 a.m.

ADDRESSES:

Meeting address: The meeting will be held at the DoubleTree by Hilton, 50 Ferncroft Road, Danvers, MA 01950; phone: (978) 777-2500.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will review the recreational advisory panel recommendations and then provide recommendations to the Council on fishing year 2019 recreational measures for Gulf of Maine cod and haddock, and Georges Bank cod. They will discuss and review input from the Recreational Advisory Panel on the possibility of public listening sessions for limited access program. The committee plans to discuss the Marine Recreational Information Program (MRIP) allocation of sampling by wave, and available for-hire vessel trip report data on effort and landings by wave. They will discuss groundfish priorities for 2019 and receive an update on progress of Amendment 23/Groundfish Monitoring and to be initiated Framework 59/Specifications and Management Measures as appropriate. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: February 5, 2019.
Tracey L. Thompson,
Acting Deputy Director, Office of Sustainable Fisheries, National Marine Fisheries Service.

[FR Doc. 2019-01637 Filed 2-7-19; 8:45 am]

BILLING CODE 3510-22-P